DEPARTMENT OF THE INTERIOR

Bureau of Land Management

[223 LLUTG02000 L12200000.PM0000]

Notice of Public Meeting, San Rafael Swell Recreation Area Advisory Council, Utah

AGENCY: Bureau of Land Management, Interior.

ACTION: Notice of public meeting.

SUMMARY: In accordance with the Federal Land Policy and Management Act, the Federal Advisory Committee Act, and the Federal Lands Recreation Enhancement Act, the U.S. Department of the Interior, Bureau of Land Management's (BLM) San Rafael Swell Recreation Area Advisory Council (Council) will meet as follows.

DATES: The Council is scheduled to meet virtually on February 16, 2022, from 1 p.m. to 5 p.m. and on February 17, 2022, from 8:30 a.m. to 12 p.m.

ADDRESSES: The meetings will be held online through the Zoom meeting application. Participation information will be available 30 days in advance of the meeting on the RAC's web page at https://www.blm.gov/get-involved/resource-advisory-council/near-you/utah/San-Rafael-Swell-RAC. Written comments to address the Council may be sent to Lance Porter, Green River District Manager, 170 South 500 West, Vernal, Utah 84078; or via email with the subject line “San Rafael Swell Advisory Council meeting” to utprmail@blm.gov.

FOR FURTHER INFORMATION CONTACT: Lance Porter, BLM Green River District Manager, 170 South 500 West, Vernal, Utah 84078; telephone (435) 781-4400; or email l50porte@blm.gov. Persons who use a telecommunications device for the deaf may call the Federal Relay Service (FRS) at 1-800-877-8339 to leave a message or question for Lance Porter. The FRS is available 24 hours a day, 7 days a week. Replies are provided during normal business hours.

SUPPLEMENTARY INFORMATION: The John D. Dingell, Jr. Conservation, Management, and Recreation Act (Pub. L. 116-9) established the Council to provide advice and information for the BLM in planning and managing the San Rafael Swell Recreation Area. The seven-member council represents a wide range of interests including local government, recreational users, grazing allotment permittees, conservation organizations, expertise in historical uses of the recreation area, and Tribes. More information can be found on the Council's web page at: https://www.blm.gov/get-involved/resource-advisory-council/near-you/utah/San-Rafael-Swell-RAC. Agenda topics for the meeting will include San Rafael Swell Recreation Area updates; backcountry airstrips and Areas of Critical Environmental Concern within the San Rafael Swell Recreation Area; and the scoping themes and planning process for the Dingell Act RMP Amendments (as related to the San Rafael Swell Recreation Area only). The final agenda and meeting information will be posted on the Council's web page 30 days before the meeting.

The meeting is open to the public. A public-comment period will be offered each day of the scheduled meeting. Depending on the number of people wishing to comment and the time available, the time for individual comments may be limited. Written comments may also be sent to the Green River District Manager at the address listed in the ADDRESSES section of this notice. All comments received will be provided to the Council.

Public Disclosure of Comments: Before including your address, phone number, email address, or other personal identifying information in your comment, you should be aware that your entire comment—including your personal identifying information—may be made publicly available at any time. While you can ask us in your comment to withhold your personal identifying information from public review, we cannot guarantee we will be able to do so.

Detailed Council meeting minutes will be maintained in the Green River District Office and will be available for public inspection and reproduction during regular business hours within 90 days following the meeting. Minutes will also be posted to the Council web page.

(Authority: 43 CFR 1784.4-2)

Gregory Sheehan,
Bureau of Land Management, State Director, Utah.

[FR Doc. 2021-26766 Filed 12-9-21; 8:45 am]

BILLING CODE 4310-DQ-P